DEPARTMENT OF COMMERCE

International Trade Administration

(A-122-838)

Certain Softwood Lumber Products from Canada: Extension of the Time Limit for the Preliminary Results of Antidumping Duty Administrative Review

AGENCY: Import Administration, International Trade Administration, Department of Commerce.

EFFECTIVE DATE: January 12, 2006.

FOR FURTHER INFORMATION CONTACT: Constance Handley or David Layton, at (202) 482-0631 or (202) 482-0371, respectively; AD/CVD Operations, Office 1, Import Administration, International Trade Administration, U.S. Department of Commerce, 14th Street & Constitution Avenue, NW., Washington, DC 20230.

SUPPLEMENTARY INFORMATION:

Background

On June 30, 2005, the Department of Commerce (the Department) published a notice of initiation of administrative review of the antidumping duty order on certain softwood lumber products from Canada, covering the period May 1, 2004, through April 30, 2005. See Notice of Initiation of Antidumping Duty Administrative Review, 70 FR 37749. The preliminary results are currently due no later than January 31, 2006. The review covers over four hundred producers/exporters of subject merchandise to the United States, of which eight are being individually examined.

Extension of Time Limit for Preliminary Results of Review

Section 751(a)(3)(A) of the Tariff Act of 1930, as amended (the Act), requires the Department of Commerce (the Department) to complete the preliminary results of an administrative review within 245 days after the last day of the anniversary month of an order/finding for which a review is requested. However, if it is not practicable to complete the review within these time periods, section 751(a)(3)(A) of the Act allows the Department to extend the time limit for the preliminary results to a maximum of 365 days after the last day of the anniversary month of an order/finding for which a review is requested.

We determine that it is not practicable to complete the preliminary results of this review within the original time limit due to a number of complex issues which must be addressed prior to the issuance of those results. For the first time in this proceeding, the Department employed a sampling methodology in selecting respondents. In order to obtain necessary information and to afford parties opportunities to comment on the Department's selection methodology, the Department did not conduct its respondent selection sampling procedure until November 23, 2005. See section 777A(b) of the Act (where the Department determines to limit the selection of respondents by sampling, the Department “shall, to the greatest extent possible, consult with the exporters and producers regarding the method used to select exporters, producers or types of products”). Consequently, the Department requires additional time to analyze the parties' questionnaire responses, including the complex corporate structures and affiliations of the eight respondents in this review, issue any necessary supplemental questionnaires and conduct verifications.

Accordingly, the Department is extending the time limit for completion of the preliminary results of this administrative review until no later than May 31, 2006. We intend to issue the final results no later than 120 days after publication of the preliminary results notice.

This notice of extension of the time limit is published in accordance with 751(a)(3)(A) of the Act.

Dated: January 5, 2006.
Stephen J. Claeys,
Deputy Assistant Secretary for Import Administration.

[FR Doc. E6-239 Filed 1-11-06; 8:45 am]

BILLING CODE 3510-DS-S